DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's Web site (www.treasury.gov/ofac).

Notice of OFAC Action(s)

On September 26, 2017, OFAC determined that the property and interests in property subject to U.S. jurisdiction of the following persons are blocked pursuant to the relevant sanctions authorities listed below. Dealings in property subject to U.S. jurisdiction in which a person identified as Government of North Korea has an interest are prohibited effective as of the date of that status, which may be earlier than the date of OFAC's determination.

Individuals

1. KWAK, Chong-chol (a.k.a. KWAK, Jong-chol), Dubai, United Arab Emirates; DOB 01 Jan 1975; nationality Korea, North; Gender Male; Passport 563220533 (Korea, North) (individual) [DPRK4].

Designated pursuant to Section 1(a)(i) of Executive Order 13810 of September 20, 2017, “Imposing Additional Sanctions With Respect to North Korea” (Executive Order 13810) for operating in the financial services industry in North Korea.

2. RYOM, Hui-bong (a.k.a. RYO'M, Hu'i-pong), Dubai, United Arab Emirates; DOB 18 Sep 1961; nationality Korea, North; Gender Male; Passport 745120026 (Korea, North) (individual) [DPRK4].

Designated pursuant to Section 1(a)(i) of Executive Order 13810 for operating in the financial services industry in North Korea.

3. PAK, Mun Il (a.k.a. PAK, Mun-il), Yanji, China; DOB 01 Jan 1965; nationality Korea, North; Gender Male; Passport 563335509 expires 27 Aug 2018; Korea Daesong Bank official (individual) [DPRK4].

Designated pursuant to Section 1(a)(i) of Executive Order 13810 for operating in the financial services industry in North Korea.

4. HO, Yong Il (a.k.a. HO', Yo'ng-il), Dandong, China; DOB 09 Sep 1968 (individual) [DPRK4].

Designated pursuant to Section 1(a)(i) of Executive Order 13810 for operating in the financial services industry in North Korea.

5. KANG, Min, Beijing, China; DOB 07 May 1980; nationality Korea, North; Gender Male; Passport 563132918 expires 04 Feb 2018; Korea Daesong Bank representative (individual) [DPRK4].

Designated pursuant to Section 1(a)(i) of Executive Order 13810 for operating in the financial services industry in North Korea.

6. KIM, Sang-ho, Yanji, China; DOB 16 May 1957; Passport 563337601; Korea Daesong Bank representative (individual) [DPRK4].

Designated pursuant to Section 1(a)(i) of Executive Order 13810 for operating in the financial services industry in North Korea.

7. KIM, Jong Man (a.k.a. KIM, Cho'ng-man), Korea, North; Zhuhai, China; DOB 16 Jul 1956; nationality Korea, North; Passport 918320780; Korea United Development Bank representative (individual) [DPRK4].

Designated pursuant to Section 1(a)(i) of Executive Order 13810 for operating in the financial services industry in North Korea.

8. KIM, Hyok Chol (a.k.a. KIM, Hyo'k-ch'o'l), Zhuhai, China; DOB 09 Jul 1978; Passport 472235761 expires 06 Jun 2017; Korea United Development Bank representative (individual) [DPRK4].

Designated pursuant to Section 1(a)(i) of Executive Order 13810 for operating in the financial services industry in North Korea.

9. MUN, Kyong Hwan (a.k.a. MUN, Kyo'ng-hwan), Korea, North; Dandong, China; DOB 22 Aug 1967; nationality Korea, North; Passport 381120660 expires 25 Mar 2016; Bank of East Land representative (individual) [DPRK4].

Designated pursuant to Section 1(a)(i) of Executive Order 13810 for operating in the financial services industry in North Korea.

10. PAE, Won Uk (a.k.a. PAE, Wo'n-uk), Beijing, China; DOB 22 Aug 1969; nationality Korea, North; Gender Male; Passport 472120208 (Korea, North) expires 22 Feb 2017; Korea Daesong Bank representative (individual) [DPRK4].

Designated pursuant to Section 1(a)(i) of Executive Order 13810 for operating in the financial services industry in North Korea.

11. PAK, Bong Nam (a.k.a. LUI, Wai Ming; a.k.a. PAK, Pong Nam; a.k.a. PAK, Pong-nam), Shenyang, China; DOB 06 May 1969; ILSIM International Bank Representative in Shenyang, China (individual) [DPRK4].

Designated pursuant to Section 1(a)(i) of Executive Order 13810 for operating in the financial services industry in North Korea.

12. CHU, Hyo'k (a.k.a. JU, Hyok), Vladivostok, Russia; DOB 23 Nov 1986; nationality Korea, North; Gender Male; Passport 836420186 (Korea, North) issued 28 Oct 2016 expires 28 Oct 2021; Foreign Trade Bank of the Democratic People's Republic of Korea representative (individual) [DPRK4].

Designated pursuant to Section 1(a)(iv) of Executive Order 13810 for being a North Korean person.

13. RI, U'n-so'ng (a.k.a. RI, Eun Song; a.k.a. RI, Un Song), Moscow, Russia; DOB 23 Jul 1969; Korea United Development Bank representative (individual) [DPRK4].

Designated pursuant to Section 1(a)(i) of Executive Order 13810 for operating in the financial services industry in North Korea.

14. PANG, Su Nam (a.k.a. PANG, So-nam; a.k.a. PANG, Sunam), Zhuhai, China; DOB 01 Oct 1964; Passport 472110138; ILSIM International Bank representative in Zhuhai, China (individual) [DPRK2] [DPRK4].

Designated pursuant to Section 1 (a)(ii) of Executive Order 13687 of January 2, 2015, “Imposing Additional Sanctions With Respect to North Korea” (Executive Order 13687) for being an official of the Government of North Korea. Also designated pursuant to Section 1(a)(i) of Executive Order 13810 for operating in the financial services industry in North Korea.

15. CHA, Sung Jun (a.k.a. CH'A, Su'ng-chun), Beijing, China; DOB 04 Jun 1966; nationality Korea, North; Passport 472434355 (individual) [DPRK4].

Designated pursuant to Section 1(a)(i) of Executive Order 13810 for operating in the financial services industry in North Korea.

16. JI, Sang Jun (a.k.a. CHI, Sang-chun), Moscow, Russia; DOB 03 May 1971 (individual) [DPRK4].

Designated pursuant to Section 1(a)(i) of Executive Order 13810 for operating in the financial services industry in North Korea.

17. KIM, Kyong Hyok (a.k.a. KIM, Kyo'ng-hyo'k), Shanghai, China; DOB 05 Nov 1985; Cheil Credit Bank representative (individual) [DPRK4].

Designated pursuant to Section 1(a)(i) of Executive Order 13810 for operating in the financial services industry in North Korea.

18. PAK, Chol Nam (a.k.a. PAK, Ch'o'l-nam), Beijing, China; DOB 16 Jun 1971; nationality Korea, North; Passport 745420413 expires 19 Nov 2020; Cheil Credit Bank representative in Beijing (individual) [DPRK4].

Designated pursuant to Section 1(a)(i) of Executive Order 13810 for operating in the financial services industry in North Korea.

19. RI, Ho Nam (a.k.a. RI, Ho-nam), Beijing, China; DOB 03 Jan 1967; nationality Korea, North; Passport 654120210 expires 21 Feb 2019; Ryugyong Commercial Bank representative (individual) [DPRK4].

Designated pursuant to Section 1(a)(i) of Executive Order 13810 for operating in the financial services industry in North Korea.

20. KIM, Tong Chol (a.k.a. KIM, Tong-ch'o'l), Shenyang, China; DOB 28 Jan 1966; Foreign Trade Bank of the Democratic People's Republic of Korea official (individual) [DPRK2].

Designated pursuant to Section 1 (a)(ii) of Executive Order 13687 for being an official of the Government of North Korea.

21. KO, Chol Man (a.k.a. KO, Ch'o'l-man), Shenyang, China; DOB 30 Sep 1967; Passport 472420180; Foreign Trade Bank of the Democratic People's Republic of Korea representative (individual) [DPRK2].

Designated pursuant to Section 1 (a)(ii) of Executive Order 13687 for being an official of the Government of North Korea.

22. RI, Chun Hwan (a.k.a. RI, Ch'un-hwan), Zhuhai, China; DOB 21 Aug 1957; Passport 563233049 expires 09 May 2018; Foreign Trade Bank of the Democratic People's Republic of Korea representative (individual) [DPRK2].

Designated pursuant to Section 1 (a)(ii) of Executive Order 13687 for being an official of the Government of North Korea.

23. RI, Chun Song (a.k.a. RI, Ch'un-so'ng), Beijing, China; DOB 30 Oct 1965; Passport 654133553 expires 11 Mar 2019; Foreign Trade Bank of the Democratic People's Republic of Korea representative (individual) [DPRK2].

Designated pursuant to Section 1 (a)(ii) of Executive Order 13687 for being an official of the Government of North Korea.

24. CH'OE, So'k-min, Shenyang, China; DOB 25 Jul 1978; nationality Korea, North; Foreign Trade Bank of the Democratic People's Republic of Korea representative (individual) [DPRK2].

Designated pursuant to Section 1 (a)(ii) of Executive Order 13687 for being an official of the Government of North Korea.

25. KIM, Kyong Il (a.k.a. KIM, Kyo'ng-il), Libya; DOB 01 Aug 1979; Gender Male; Passport 836210029; Foreign Trade Bank of the Democratic People's Republic of Korea deputy chief representative in Libya (individual) [DPRK2].

Designated pursuant to Section 1 (a)(ii) of Executive Order 13687 for being an official of the Government of North Korea.

26. KU, Ja Hyong (a.k.a. KU, Cha-hyo'ng), Libya; DOB 08 Sep 1957; Gender Male; Foreign Trade Bank of the Democratic People's Republic of Korea chief representative in Libya (individual) [DPRK2].

Designated pursuant to Section 1 (a)(ii) of Executive Order 13687 for being an official of the Government of North Korea.

Entities

1. AGRICULTURAL DEVELOPMENT BANK, Korea, North [DPRK4].

Designated pursuant to Section 1(a)(i) of Executive Order 13810 for operating in the financial services industry in North Korea.

2. CHEIL CREDIT BANK (a.k.a. FIRST CREDIT BANK; f.k.a. “KYONGYONG CREDIT BANK”), 3-18 Pyongyang Information Center, Potonggang District, Pyongyang, Korea, North; Beijing, China; Shenyang, China; Shanghai, China; SWIFT/BIC KYCBKPPYXXX [DPRK4].

Designated pursuant to Section 1(a)(i) of Executive Order 13810 for operating in the financial services industry in North Korea.

3. HANA BANKING CORPORATION LTD, Haebangsan Hotel, Jungsong-Dong, Sungri Street, Central District, Pyongyang, Korea, North; Dandong, China; SWIFT/BIC BRBKKPPIXXX [DPRK4].

Designated pursuant to Section 1(a)(i) of Executive Order 13810 for operating in the financial services industry in North Korea.

4. INTERNATIONAL INDUSTRIAL DEVELOPMENT BANK, Jongpyong-Dong, Pyong Chon District, Pyongyang, Korea, North [DPRK4].

Designated pursuant to Section 1(a)(i) of Executive Order 13810 for operating in the financial services industry in North Korea.

5. JINMYONG JOINT BANK, Korea, North; Dalian, China [DPRK4].

Designated pursuant to Section 1(a)(i) of Executive Order 13810 for operating in the financial services industry in North Korea.

6. JINSONG JOINT BANK, Korea, North [DPRK4].

Designated pursuant to Section 1(a)(i) of Executive Order 13810 for operating in the financial services industry in North Korea.

7. KORYO COMMERCIAL BANK LTD., Pyongyang, Korea, North; Beijing, China; Shenyang, China; SWIFT/BIC KCBKKPP1 [DPRK4].

Designated pursuant to Section 1(a)(i) of Executive Order 13810 for operating in the financial services industry in North Korea.

8. RYUGYONG COMMERCIAL BANK, Korea, North; Beijing, China; Dandong, China [DPRK4].

Designated pursuant to Section 1(a)(i) of Executive Order 13810 for operating in the financial services industry in North Korea.

9. CENTRAL BANK OF THE DEMOCRATIC PEOPLE'S REPUBLIC OF KOREA, 58-1 Mansu-dong, Sungri Street, Central District, Pyongyang, Korea, North [DPRK3].

Identified as meeting the definition of the Government of North Korea as set forth in Section 9(d) of Executive Order 13722 of March 15, 2016, “Blocking Property of the Government of North Korea and the Workers' Party of Korea, and Prohibiting Certain Transactions With Respect to North Korea” (Executive Order 13722) because it is an agency, instrumentality, or controlled entity of the Government of North Korea.

10. FOREIGN TRADE BANK OF THE DEMOCRATIC PEOPLE'S REPUBLIC OF KOREA (a.k.a. KOREA TRADE BANK; a.k.a. MOOYOKBANK; a.k.a. NORTH KOREA'S FOREIGN TRADE BANK), FTB Building, Jungsong-dong, Central District, Pyongyang, Korea, North; SWIFT/BIC FTBD KP PY [NPWMD] [DPRK3].

Identified as meeting the definition of the Government of North Korea as set forth in Section 9(d) of Executive Order 13722 because it is an agency, instrumentality, or controlled entity of the Government of North Korea.

Dated: September 26, 2017.
Michael Mosier,
Acting Director, Office of Foreign Assets Control.

[FR Doc. 2017-21049 Filed 9-29-17; 8:45 am]

BILLING CODE 4810-AL-P